Proclamation 9116 of April 30, 2014

Loyalty Day, 2014

By the President of the United States of America

A Proclamation

Over 150 years ago, as a civil war threatened to dissolve our Union, President Abraham Lincoln delivered the Gettysburg Address. Defining the American experiment as “conceived in liberty, and dedicated to the proposition that `all men are created equal,' ” he resolved that our Nation “shall not perish from the earth.” He understood that what makes America most worth preserving are our founding ideals. These ideals compelled colonists to rise up against an empire, and they have sustained generations of service members through the darkest days of war.

In the United States of America, we do not define loyalty as adherence to any single leader, party, or political platform. When we make big decisions as a country, we necessarily stir up passions and controversy. These debates are a hallmark of democracy; they allow us to trade ideas, question antiquated notions, and ensure our Nation's course reflects the will of the American people. Yet even as we disagree, we remain true to our shared values and our common hopes for America's future.

On Loyalty Day, we renew our conviction to the principles of liberty, equality, and justice under the law. We accept our responsibilities to one another. And we remember that our differences pale in comparison to the strength of the bonds that hold together the most diverse Nation on earth.

In order to recognize the American spirit of loyalty and the sacrifices that so many have made for our Nation, the Congress, by Public Law 85-529 as amended, has designated May 1 of each year as “Loyalty Day.” On this day, let us reaffirm our allegiance to the United States of America and pay tribute to the heritage of American freedom.

NOW, THEREFORE, I, BARACK OBAMA, President of the United States of America, do hereby proclaim May 1, 2014, as Loyalty Day. This Loyalty Day, I call upon all the people of the United States to join in support of this national observance, whether by displaying the flag of the United States or pledging allegiance to the Republic for which it stands.

IN WITNESS WHEREOF, I have hereunto set my hand this thirtieth day of April, in the year of our Lord two thousand fourteen, and of the Independence of the United States of America the two hundred and thirty-eighth.

[FR Doc. 2014-10458

Filed 5-5-14; 8:45 am]

Billing code 3295-F4